DEPARTMENT OF LABOR

Employment and Training Administration

Agency Information Collection Activities; Comment Request; Equal Employment Opportunity in Apprenticeship Training

ACTION: Notice.

SUMMARY: The Department of Labor's (DOL's) Employment and Training Administration (ETA) is soliciting comments concerning a proposed revision for the authority to conduct the information collection request (ICR) titled, “Equal Employment Opportunity in Apprenticeship Training.” This comment request is part of continuing Departmental efforts to reduce paperwork and respondent burden in accordance with the Paperwork Reduction Act of 1995 (PRA).

DATES: Consideration will be given to all written comments received by January 21, 2020.

ADDRESSES: A copy of this ICR with applicable supporting documentation, including a description of the likely respondents, proposed frequency of response, and estimated total burden, may be obtained free by contacting Tiffany Ramos by telephone at 202-693-3563 (this is not a toll-free number), TTY 1-877-889-5627 (this is not a toll-free number), or by email at OA-ICRs@dol.gov.

Submit written comments about, or requests for a copy of, this ICR by mail or courier to the U.S. Department of Labor, Employment and Training Administration, Office of Apprenticeship, Room C-5321, 200 Constitution Avenue NW, Washington, DC 20210; by email: OA-ICRs@dol.gov; or by Fax: 202-693-3799.

FOR FURTHER INFORMATION CONTACT: Contact Tiffany Ramos by telephone at 202-693-3563 (this is not a toll-free number) or by email at OA-ICRs@dol.gov.

Authority: 44 U.S.C. 3506(c)(2)(A).

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

ETA is requesting the regular three-year approval on a revision to a currently approved ICR pursuant to the Paperwork Reduction Act. If approved, this request will enable ETA to continue to collect data from applicants and apprentices, who file a discrimination complaint. Under the National Apprenticeship Act of 1937 (NAA) (29 U.S.C. 50), the Secretary of Labor is charged with the establishment of labor standards designed to safeguard the welfare of apprentices and promote apprenticeship opportunity. The NAA authorizes the Secretary of Labor to “publish information relating to existing and proposed labor standards of apprenticeship.”

Title 29 CFR part 30 (part 30), titled “Equal Employment Opportunity in Apprenticeship,” sets forth policies and procedures to promote the equality of opportunity in apprenticeship programs registered with DOL and recognized State Apprenticeship Agencies. These regulations prohibit discrimination in registered apprenticeship on the basis of race, color, religion, national origin, sex (including pregnancy and gender identity), disability, age (40 or older), genetic information, and sexual orientation, and require that sponsors of registered apprenticeship programs take affirmative action to provide equal opportunity in such programs. These policies and procedures apply to recruitment and selection of apprentices, and to all conditions of employment and training during apprenticeship. The procedures provide for registering apprenticeship programs, for reviewing apprenticeship programs, for processing complaints, and for deregistering non-complying apprenticeship programs. Part 30 also provides policies and procedures for continuation or withdrawal of recognition of state agencies, which register apprenticeship programs for Federal purposes.

The Complaint Form—Equal Employment Opportunity in Apprenticeship Programs, ETA Form 9039, which is used by applicants and/or apprentices to file a complaint of discrimination with the DOL, is set to expire on January 31, 2020. This proposed information collection request seeks a revision of approved ETA Form 9039 (OMB Control No. 1205-0224), which is set to expire on January 31, 2020.

The proposed revisions to ETA Form 9039 consist of (1) minor edits for clarity; (2) an update to the Office of Apprenticeship's room number; (3) a correction to the number of days (i.e., 300) that a complaint must be filed as required under part 30; (4) an update to the list of protected bases to include disability, age (40 or older), genetic information, sex (including pregnancy and gender identity), and sexual orientation and their associated definitions as required under part 30; (5) and an update to the racial category definitions so that it adheres to the OMB standards on race. The National Apprenticeship Act of 1937 authorizes this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control Number 1205-0224.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: Equal Employment Opportunity in Apprenticeship Training.

Form: ETA Form 9039.

OMB Control Number: 1205-0224.

Affected Public: Individuals/households, state/local/tribal governments, Federal government, private sector (businesses or other for-profits, and, not-for-profit institutions).

Estimated Number of Respondents: 50,139.

Frequency: Varies.

Total Estimated Annual Responses: 103,110.

Estimated Average Time per Response: 30 minutes.

Estimated Total Annual Burden Hours: 191,355.

Total Estimated Annual Other Cost Burden: $0.

John Pallasch,
Assistant Secretary for Employment and Training.

[FR Doc. 2019-25191 Filed 11-20-19; 8:45 am]

BILLING CODE 4510-FR-P